DEPARTMENT OF HOMELAND SECURITY

Federal Emergency Management Agency

44 CFR Part 67

Docket ID FEMA-2010-0003

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Matanuska-Susitna Borough, Alaska, and Incorporated Areas | Docket No.: FEMA-B-1087
Susitna River | Approximately 11 miles northwest of the intersection of Talkeetna Road and Comsat Road | +336 | Borough of Matanuska-Susitna.
| Approximately 1,100 feet downstream of the confluence with the Chulitna River | +355
Talkeetna River | Approximately 900 feet downstream of the railroad bridge north of Talkeetna | +348 | Borough of Matanuska-Susitna.
| Approximately 400 feet downstream of the confluence of Whiskey Slough | +394
Twister Creek | Just downstream of South Talkeetna Road Spur | +345 | Borough of Matanuska-Susitna.
| At the divergence from Talkeetna River | +381
* National Geodetic Vertical Datum.
+ North American Vertical Datum.
# Depth in feet above ground.
‸ Mean Sea Level, rounded to the nearest 0.1 meter.
ADDRESSES
Borough of Matanuska-Susitna
Maps are available for inspection at 350 East Dahlia Avenue, Palmer, AK 99645.
Carroll County, Arkansas, and Incorporated Areas | Docket No.: FEMA-B-1066
Leatherwood Creek | Approximately 0.61 mile upstream of Magnetic Road | +1109 | City of Eureka Springs, Unincorporated Areas of Carroll County.
| Approximately 1,250 feet upstream of Magnetic Road | +1131
* National Geodetic Vertical Datum.
+ North American Vertical Datum.
# Depth in feet above ground.
‸ Mean Sea Level, rounded to the nearest 0.1 meter.
ADDRESSES
City of Eureka Springs
Maps are available for inspection at City Hall, 44 South Main Street, Eureka Springs, AR 72632.
Unincorporated Areas of Carroll County
Maps are available for inspection at the Carroll County Courthouse, 210 West Church Street, Berryville, AR 72616.
Vanderburgh County, Indiana, and Incorporated Areas | Docket No.: FEMA-B-1080
Bluegrass Creek | At Heckel Road | +384 | Unincorporated Areas of Vanderburgh County.
| Approximately 1.5 miles upstream of Boonville-New Harmony Road | +387 | Crawford-Brandeis Ditch | Just upstream of Norfolk Southern Railroad | +386 | Unincorporated Areas of Vanderburgh County.
Dry Run Lower | At the confluence with Pigeon Creek | +378 | City of Evansville.
| Approximately 100 feet upstream of 1st Avenue | +381
Dry Run Upper | At the confluence with Dry Run Lower | +378 | City of Evansville.
| Approximately 0.3 mile upstream of Cross Gate Drive | +407
Greenbriar Hills Tributary | Approximately 600 feet upstream of the confluence with Little Pigeon Creek | +381 | Unincorporated Areas of Vanderburgh County.
| Approximately 800 feet upstream of Greendale Drive | +413
Harper Ditch | At the confluence with Hirsch Ditch | +381 | City of Evansville.
| At the confluence with Pigeon Creek | +381
Hirsch Ditch | At the confluence with Harper Ditch | +381 | City of Evansville, Unincorporated Areas of Vanderburgh County.
| At the confluence with Crawford-Brandeis, Lockwood, and Stockfleith Ditches | +386
Little Pigeon Creek | At the confluence with Pigeon Creek | +378 | City of Evansville, Unincorporated Areas of Vanderburgh County.
| Approximately 2,250 feet upstream of the confluence with Pigeon Creek | +378
Lockwood Ditch | At the confluence of Crawford-Brandeis, Stockfleith, and Hirsch Ditches | +386 | Unincorporated Areas of Vanderburgh County.
| At the county boundary | +387
Mill Road Tributary | At the confluence with Little Pigeon Creek | +378 | City of Evansville.
| Approximately 725 feet upstream of Inwood Drive | +407
Nurenbern Ditch | At the confluence with Lockwood Ditch | +387 | Unincorporated Areas of Vanderburgh County.
| At State Road 66 | +389
Ohio River | Approximately 7.3 miles upstream of the Posey County boundary (extended) | +374 | City of Evansville, Unincorporated Areas of Vanderburgh County.
| Approximately 1.5 miles downstream of the Warrick County boundary (extended) | +381
Pigeon Creek | Approximately 1,200 feet downstream of North Fulton Avenue | +378 | City of Evansville, Unincorporated Areas of Vanderburgh County.
| At Green River Road | +383
Schlensker Ditch | At Green River Road | +389 | Unincorporated Areas of Vanderburgh County.
| Approximately 2,000 feet upstream of Browning Road | +441
Schlensker Ditch Tributary | At the confluence with Schlensker Ditch | +405 | Unincorporated Areas of Vanderburgh County.
| Approximately 0.5 mile upstream of the confluence with Schlensker Ditch | +409
Stockfleith Ditch | At the confluence with Hirsch, Lockwood, and Crawford-Brandeis Ditches | +386 | Unincorporated Areas of Vanderburgh County.
| At State Road 66 | +388
* National Geodetic Vertical Datum.
+ North American Vertical Datum.
# Depth in feet above ground.
‸ Mean Sea Level, rounded to the nearest 0.1 meter.
ADDRESSES
City of Evansville
Maps are available for inspection at the Evansville Civic Center Complex, Building Commission Department, 1 Northwest Martin Luther King Jr. Boulevard, Room 310, Evansville, IN 47708.
Unincorporated Areas of Vanderburgh County
Maps are available for inspection at the Evansville Civic Center Complex, Building Commission Department, 1 Northwest Martin Luther King Jr. Boulevard, Room 310, Evansville, IN 47708.
Marion County, Kansas, and Incorporated Areas | Docket No.: FEMA-B-1087
Clear Creek | At the confluence with Mud Creek | +1319 | Unincorporated Areas of Marion County.
| Approximately 250 feet upstream of Cedar Street | +1319
Cottonwood River | Approximately 1,100 feet downstream of 5th Street | +1272 | Unincorporated Areas of Marion County.
| Approximately 775 feet upstream of West Main Street | +1316
Cottonwood River Tributary | Approximately 1,100 feet upstream of Upland Road | +1307 | Unincorporated Areas of Marion County.
| Approximately 1,200 feet upstream of Tanglewood Street | +1322
Doyle Creek | Approximately 1.1 miles downstream of 105th Street | +1272 | City of Marion, Unincorporated Areas of Marion County.
| Approximately 0.7 mile upstream of Maple Street | +1367
Mud Creek | Approximately 1,000 feet upstream of the confluence with Cottonwood Creek | +1316 | City of Marion, Unincorporated Areas of Marion County.
| Approximately 1,200 feet upstream of the confluence with Clear Creek | +1319
Old Mud Creek Channel | Approximately 1,100 feet downstream of Commercial Street | +1299 | City of Marion, Unincorporated Areas of Marion County.
| Approximately 1.6 miles upstream of Main Street | +1300
Old Mud Creek Channel Tributary | At the confluence with Old Mud Creek Channel | +1299 | City of Marion.
| At West Santa Fe Street | +1304
Prairie Creek | At the confluence with Doyle Creek | +1356 | Unincorporated Areas of Marion County.
| Approximately 0.7 mile upstream of Old Mill Road | +1390
Spring Creek | At Peabody Street | +1368 | Unincorporated Areas of Marion County.
| Approximately 1,325 feet upstream of 70th Street | +1377
Tributary to Cottonwood River | Approximately 1,375 feet downstream of West Main Street | +1299 | City of Marion.
| Approximately 75 feet downstream of West Main Street | +1299
* National Geodetic Vertical Datum.
+ North American Vertical Datum.
# Depth in feet above ground.
‸ Mean Sea Level, rounded to the nearest 0.1 meter.
ADDRESSES
City of Marion
Maps are available for inspection at City Hall, 208 East Sante Fe Street, Marion, KS 66861.
Unincorporated Areas of Marion County
Maps are available for inspection at the Marion County Courthouse, 200 South 3rd Street, Marion, KS 66861.
Simpson County, Kentucky, and Incorporated Areas | Docket No.: FEMA-B-1066
Webb Branch | Just downstream of KY-1008 (Industrial Bypass) | +660 | City of Franklin, Unincorporated Areas of Simpson County.
| Approximately 0.4 mile upstream of Witt Road | +736
* National Geodetic Vertical Datum.
+ North American Vertical Datum.
# Depth in feet above ground.
‸ Mean Sea Level, rounded to the nearest 0.1 meter.
ADDRESSES
City of Franklin
Maps are available for inspection at 117 West Cedar Street, Franklin, KY 42135.
Unincorporated Areas of Simpson County
Maps are available for inspection at 100 Main Street, Franklin, KY 42135.
Allen Parish, Louisana, and Incorporated Areas | Docket No.: FEMA-B-1040
Beaver Creek | Approximately 7,218 feet downstream of 16th Street | +117 | City of Oakdale.
| Approximately 575 feet downstream of 16th Street | +119
Bunch Creek | At Martin Tram Road | +37 | Unincorporated Areas of Allen Parish.
| Approximately 3,097 feet upstream of U.S. Route 190 | +38
Calcasieu River | Approximately 341 feet upstream of the confluence with unnamed creek | +106 | City of Oakdale.
| At the intersection of unnamed creek and Union Pacific Railroad | +107
Gilley Gully | Approximately 1,539 feet downstream of Martin Tram Road | +35 | Unincorporated Areas of Allen Parish.
| Approximately 4,613 feet upstream of Martin Tram Road | +36
Whisky Chitto Creek | Approximately 10,369 feet upstream of the confluence with the Calcasieu River | +41 | Unincorporated Areas of Allen Parish.
| Approximately 6,544 feet upstream of the confluence with the Calcasieu River | +41
* National Geodetic Vertical Datum.
+ North American Vertical Datum.
# Depth in feet above ground.
‸ Mean Sea Level, rounded to the nearest 0.1 meter.
ADDRESSES
City of Oakdale
Maps are available for inspection at 333 East 6th Avenue, Oakdale, LA 71463.
Unincorporated Areas of Allen Parish
Maps are available for inspection at the Allen Parish Police Jury, 602 Court Street, Oberlin, LA 70655.
Barton County, Missouri, and Incorporated Areas | Docket No.: FEMA-B-1075
North Fork Spring River | Approximately 6,200 feet downstream of the City of Lamar Heights corporate limits | +935 | City of Lamar Heights, Unincorporated Areas of Barton County.
| Approximately 600 feet upstream of the City of Lamar corporate limits | +942
* National Geodetic Vertical Datum.
+ North American Vertical Datum.
# Depth in feet above ground.
‸ Mean Sea Level, rounded to the nearest 0.1 meter.
ADDRESSES
City of Lamar Heights
Maps are available for inspection at 1004 Gulf Street, Room 103, Lamar, MO 64759.
Unincorporated Areas of Barton County
Maps are available for inspection at 1004 Gulf Street, Room 103, Lamar, MO 64759.
Greene County, Ohio, and Incorporated Areas
Docket No.: FEMA-B-1012 and FEMA-B-1085
Possum Run | Approximately 900 feet downstream of Wilmington Pike | +931 | City of Centerville.
| At the confluence of Wilmington Pike North Branch | +940
Shawnee Park Tributary | Approximately 0.80 mile upstream of Monroe Drive | +924 | City of Xenia, Unincorporated Areas of Greene County.
| Just downstream of U.S. Route 42 | +943
South Fork Massies Creek | Approximately 0.53 mile upstream of the railroad | +1041 | Unincorporated Areas of Greene County.
| Approximately 240 feet downstream of Weimer Road | +1050
Yellow Springs Creek | Approximately 0.8 mile upstream of Grinnell Road | +886 | Village of Yellow Springs
| Approximately 0.7 mile downstream of Fairfield Road | +905
* National Geodetic Vertical Datum.
+ North American Vertical Datum.
# Depth in feet above ground.
‸ Mean Sea Level, rounded to the nearest 0.1 meter.
ADDRESSES
City of Centerville
Maps are available for inspection at the Municipal Building, 100 West Spring Valley Road, Centerville, OH 45458.
City of Xenia
Maps are available for inspection at City Hall, 101 North Detroit Street, Xenia, OH 45385.
Unincorporated Areas of Greene County
Maps are available for inspection at the Greene County Building Regulations, 667 Dayton-Xenia Road, Xenia, OH 45385.
Village of Yellow Springs
Maps are available for inspection at 100 Dayton Street, Yellow Springs, OH 45387.
Hopkins County, Texas, and Incorporated Areas | Docket No.: FEMA-B-1091
Coleman Creek | Approximately 0.56 mile upstream of State Highway 19 | +437 | Unincorporated Areas of Hopkins County.
| Approximately 600 feet upstream of State Highway 19 | +445
Gena Creek | Just upstream of FM Road 1870 | +440 | Unincorporated Areas of Hopkins County.
| Approximately 1.04 miles upstream of FM Road 1870 | +457
Rock Creek | Just downstream of unnamed railroad | +421 | Unincorporated Areas of Hopkins County.
| Approximately 500 feet upstream of Holiday Drive | +476
Turtle Creek | Just upstream of State Highway 11 | +481 | Unincorporated Areas of Hopkins County.
| Just upstream of unnamed railroad | +494
* National Geodetic Vertical Datum.
+ North American Vertical Datum.
# Depth in feet above ground.
‸ Mean Sea Level, rounded to the nearest 0.1 meter.
ADDRESSES
Unincorporated Areas of Hopkins County
Maps are available for inspection at the Hopkins County Courthouse, 118 Church Street, Sulphur Springs, TX 75483.

(Catalog of Federal Domestic Assistance No. 97.022, “Flood Insurance.”)

Dated: February 8, 2011.
Edward L. Connor,
Acting Federal Insurance and Mitigation Administrator, Department of Homeland Security, Federal Emergency Management Agency.

[FR Doc. 2011-4129 Filed 2-23-11; 8:45 am]

BILLING CODE 9110-12-P